DEPARTMENT OF HEALTH AND HUMAN SERVICES

Centers for Disease Control and Prevention

[30 Day-08-07BF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC, or by fax to (202) 395-6974. Written comments should be received within 30 days of this notice.

Proposed Project

Formative Research on Lung Cancer Screening—New—Division of Cancer Prevention and Control (DCPC), National Center for Chronic Disease Prevention and Health Promotion (NCCDPHP), Centers for Disease Control and Prevention (CDC).

Background and Brief Description

The value of screening for lung cancer is a topic of scientific debate with important medical and economic consequences. Although chest x-rays (CXR) have been widely used for lung cancer screening, studies have shown that CXR with or without sputum cytology does not reduce mortality from lung cancer. Studies are currently underway to provide more information about the effectiveness of other types of screening tests, such as computed tomography (CT) scans and spiral CT scans.

CDC proposes to conduct formative research to gather information from adult health care consumers and primary care physicians about experiences and practices related to lung cancer screening. Information will be collected over a two-year period. Of particular interest are long-term heavy smokers aged 40-70 who are considered high-risk for lung cancer. Information to be collected concerns their knowledge, attitudes, and behaviors related to preventive lung cancer screening and testing. Eight in-person focus groups involving an average of nine health care consumers will be conducted in each year of the study. In addition, in-depth follow-up interviews will be conducted by telephone with a limited subset of health care consumers who report experience with screening tests such as spiral computed tomography (CT).

Information will also be collected through focus groups composed of primary care physicians. Potential respondents will indicate their interest in participating by completing and returning a mailed screening form. Focus groups involving physicians will be conducted by telephone and will also collect information about knowledge, attitudes, and behaviors related to preventive cancer screening and testing. Four focus groups involving physicians will be conducted in each year of the study with an average of six respondents participating in each focus group. Two alternates will be recruited for each physician focus group in order to assure the participation of the targeted number of physician respondents.

The results of this formative research project will be used to inform future research and educational efforts and to develop lung cancer screening and testing interventions.

There are no costs to respondents except their time. The total estimated annualized burden hours are 193.

Estimated Annualized Burden Hours

Type of respondents | Form name | Number of respondents | Number of responses per respondent | Average burden per response (in hours)
Health Care Consumers | Health Care Consumer Screener Form | 192 | 1 | 2/60
| Moderator's Guide for Health Care Consumer Focus Groups | 72 | 1 | 2
| Guide for In-Depth Interviews with Health Care Consumers | 8 | 1 | 1
Physicians | Physician Response Form | 64 | 1 | 5/60
| Moderator's Guide for Physician Focus Groups | 24 | 1 | 1.25

Dated: November 3, 2008.
Maryam I. Daneshvar,
Acting Reports Clearance Officer, Centers for Disease Control and Prevention.

[FR Doc. E8-26646 Filed 11-6-08; 8:45 am]

BILLING CODE 4163-18-P